DEPARTMENT OF DEFENSE

Department of the Navy

[Docket ID: USN-2014-0006]

Privacy Act of 1974; System of Records

AGENCY: Department of the Navy, DoD.

ACTION: Notice to alter a System of Records.

SUMMARY: The Department of the Navy proposes to alter the system of records, N05813-4, entitled “Trial/Government Counsel Files” in its inventory of record systems subject to the Privacy Act of 1974, as amended. This system is used to prosecute or otherwise resolve military justice cases; to obtain support from the U.S. Department of Justice on requests for immunity for civilian witnesses; to obtain information from a Federal, state, local, or foreign agency, or from an individual or organization, relating to an investigation, charge, or court-martial and to provide information and support to victims and witnesses in compliance with the Victim and Witness Assistance Program, Sexual Assault Prevention and Response Program, and the Victims' Rights and Restitution Act of 1990.

DATES: Comments will be accepted on or before March 17, 2014. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy's notices for systems of records subject to the Privacy Act of 1974 (5 U.S.C. 552a), as amended, have been published in the Federal Register and are available from the address in FOR FURTHER INFORMATION CONTACT or from the Defense Privacy and Civil Liberties Office Web site at http://dpclo.defense.gov/privacy/SORNs/component/navy/index.html.

The proposed system report, as required by 5 U.S.C. 552a(r) of the Privacy Act of 1974, as amended, was submitted on January 28, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: February 11, 2014.
Aaron Siegel,
Alternate OSD Federal Register Liaison Officer, Department of Defense.

N05813-4

System name:

Trial/Government Counsel Files (April 4, 2000, 65 FR 17643).

Changes:

* * * * *

System location:

Delete entry and replace with “Region Legal Service Offices, Detachments, and Branch Offices which have trial counsel assigned, regardless of branch of service. Official mailing addresses are published as an appendix to the Navy's compilation of system of records notices.”

* * * * *

Categories of records in the system:

Delete entry and replace with “Charge sheets; convening orders; appointing orders; investigative reports of Federal, state, and local law enforcement agencies; local command investigations; witness statements; results from witness interviews, including witness name, Social Security Number (SSN), home/work addresses, home/work/cell telephone numbers, and other PII that a witness may provide during an interview but is not routinely collected or used to retrieve information; documentary evidence; pretrial advice; immunity requests; search authorizations; general correspondence; legal research and memoranda; motions; forensic reports; pretrial confinement orders; personnel, financial, and medical records; report of Article 32, UCMJ investigations; report of Court or Board of Inquiry; subpoenas; discovery requests; correspondence reflecting pretrial negotiations; requests for resignation or discharge in lieu of trial by court-martial; work-product of trial counsel and trial department staff; results of trial memoranda; case tracking programs and files; and forms to comply with the Victim and Witness Assistance Program, the Sexual Assault Prevention and Response Program, and the Victims' Rights and Restitution Act of 1990.”

* * * * *

System manager(s) and address:

Delete entry and replace with “Commander, Naval Legal Service Command, Washington Navy Yard, 1322 Patterson Avenue SE., Suite 3000, Washington, DC 20374-5066 and at the Region Legal Service Office, Detachment or Branch Office where the matter was handled.”

Notification procedure:

Delete entry and replace with “Individuals seeking to determine whether this system of records contains information about themselves should address written inquiries to the cognizant Region Legal Service Office, Detachment or Branch Office. Official mailing addresses are published as an appendix to the Navy's compilation of system of records notices.

The request should include the full name, SSN, and address of the individual concerned; the name of the case; and any other identifying information which may be of assistance in locating the record. The request must be signed.

The system manager may require an original signature or a notarized signature as a means of proving the identity of the individual requesting access to the records.”

Record access procedures:

Delete entry and replace with “Individuals seeking access to information about themselves contained in this system should address written inquiries to the cognizant Region Legal Service Office, Detachment or Branch Office. Official mailing addresses are published as an appendix to the Navy's compilation of system of records notices.

The request should include the full name, SSN, and address of the individual concerned; the name of the case; and any other identifying information that may be of assistance in locating the record. The request must be signed.

The system manager may require an original signature or a notarized signature as a means of proving the identity of the individual requesting access to the records.”

* * * * *

[FR Doc. 2014-03305 Filed 2-13-14; 8:45 am]

BILLING CODE 5001-06-P